DEPARTMENT OF ENERGY

Federal Energy Regulatory Commission

[Project No. 2195-161]

Portland General Electric Company; Notice of Availability of Environmental Assessment

In accordance with the National Environmental Policy Act of 1969 and the Federal Energy Regulatory Commission's (Commission) regulations, 18 CFR part 380 (Order No. 486, 52 FR 47897), the Office of Energy Projects has reviewed an application submitted by Portland General Electric Company (licensee) to demolish and reconstruct the Faraday powerhouse. The project is located on the Oak Grove Fork of the Clackamas River and the mainstem of the Clackamas River in Clackamas County, Oregon. The project occupies federal lands within the Mt. Hood National Forest, under the jurisdiction of the U.S. Forest Service, and a reservation of the U.S. Department of Interior's Bureau of Land Management.

An environmental assessment (EA) has been prepared as part of staff's review of the proposal. In the application the licensee proposes to improve the Faraday development by demolishing the existing powerhouse and constructing a new powerhouse to increase its seismic stability, installing flood protection structures to prevent flooding during high flow events, and replacing the five old turbines with two modern units, without any change to the authorized installed or hydraulic capacities of the Project.

The EA contains Commission staff's analysis of the probable environmental effects of the proposed action and concludes that approval of the proposal would not constitute a major federal action significantly affecting the quality of the human environment.

The EA is available for review and reproduction at the Commission's Public Reference Room, located at 888 First Street NE, Room 2A, Washington, DC 20426. The EA may also be viewed on the Commission's website at http://www.ferc.gov using the “elibrary” link. Enter the docket number (P-2195) in the docket number field to access the document. For assistance, contact FERC Online Support at FERCOnlineSupport@ferc.gov or toll-free at 1-866-208-3372, or for TTY, (202) 502-865.

Dated: March 15, 2019.
Kimberly D. Bose,
Secretary.

[FR Doc. 2019-05497 Filed 3-21-19; 8:45 am]

BILLING CODE 6717-01-P